OFFICE OF PERSONNEL MANAGEMENT

Submission for Review: New Information Collection, Research Agreement Application for the Use of OPM Record-Level Data, OMB Control No. 3206-NEW

AGENCY: Office of Personnel Management.

ACTION: 30-Day notice and request for comments.

SUMMARY: The Office of Personnel Management (OPM) offers the general public and other Federal agencies the opportunity to comment on a new information collection—(ICR) 3206-NEW, titled “Research Agreements for the Use of OPM Record-Level Data.”

DATES: Comments are encouraged and will be accepted until May 3, 2024.

ADDRESSES: Written comments and recommendations for proposed information collection requests should be sent within 30 days of publication of this notice to www.reginfo.gov/public/do/PRAMain. Find this particular information collection request by selecting “Office of Personnel Management” under “Currently Under Review,” then check “Only Show ICR for Public Comment” checkbox.

FOR FURTHER INFORMATION CONTACT: For more information, contact the Office of the Chief Financial Officer's Planning, Performance, and Evaluation unit, Office of Personnel Management, 1900 E Street NW, Washington, DC 20415, Attention: Megan Kays at (202) 860-8580 or via electronic mail to evidence@opm.gov.

SUPPLEMENTARY INFORMATION: As required by the Paperwork Reduction Act of 1995 (Pub. L. 104-13, 44 U.S.C. chapter 35), as amended by the Clinger-Cohen Act (Pub. L. 104-106), OPM is soliciting comments for this collection. OPM collects and maintains record-level data on job applicants, Federal employees, annuitants, and other beneficiaries of OPM's programs and services. Research Agreements for the Use of OPM Record-Level Data is OPM's proposed mechanism to share data to further policy-relevant Federal workforce research. OPM will collect information through a Research Agreement Application to enable OPM to determine whether providing record level data to a research entity is in the public interest. This is a new collection to establish OPM's Research Agreement program.

The information collection was previously published in the Federal Register on November 25, 2022, at 87 FR 72518, allowing for a 60-day public comment period. OPM received one public comment that was not relevant to the proposed collection. The purpose of this notice is to allow an additional 30 days for public comments. Therefore, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Authority: 5 U.S.C. 4702.

Title: Research Agreements for the Use of OPM Record-Level Data.

OMB Number: 3206-NEW.

Frequency: Annually.

Affected Public: Individuals.

Number of Respondents: 20.

Estimated Time per Respondent: 1 hour.

Total Burden Hours: 20 hours.

Office of Personnel Management.
Stephen Hickman,
Federal Register Liaison.

[FR Doc. 2024-06986 Filed 4-2-24; 8:45 am]

BILLING CODE 6325-67-P